NATIONAL ARCHIVES AND RECORDS ADMINISTRATION

Records Schedules; Availability and Request for Comments

AGENCY: National Archives and Records Administration (NARA).

ACTION: Notice of availability of proposed records schedules; request for comments.

SUMMARY: The National Archives and Records Administration (NARA) publishes notice at least once monthly of certain Federal agency requests for records disposition authority (records schedules). Once approved by NARA, records schedules provide mandatory instructions on what happens to records when no longer needed for current Government business. They authorize the preservation of records of continuing value in the National Archives of the United States and the destruction, after a specified period, of records lacking administrative, legal, research, or other value. Notice is published for records schedules in which agencies propose to destroy records not previously authorized for disposal or reduce the retention period of records already authorized for disposal. NARA invites public comments on such records schedules, as required by 44 U.S.C. 3303a(a).

DATES: Requests for copies must be received in writing on or before January 22, 2008. Once the appraisal of the records is completed, NARA will send a copy of the schedule. NARA staff usually prepare appraisal memorandums that contain additional information concerning the records covered by a proposed schedule. These, too, may be requested and will be provided once the appraisal is completed. Requesters will be given 30 days to submit comments.

ADDRESSES: You may request a copy of any records schedule identified in this notice by contacting the Life Cycle Management Division (NWML) using one of the following means:

Mail: NARA (NWML), 8601 Adelphi Road, College Park, MD 20740-6001. E-mail: requestschedule@nara.gov. Fax: 301-837-3698.

Requesters must cite the control number, which appears in parentheses after the name of the agency which submitted the schedule, and must provide a mailing address. Those who desire appraisal reports should so indicate in their request.

FOR FURTHER INFORMATION CONTACT: Laurence Brewer, Director, Life Cycle Management Division (NWML), National Archives and Records Administration, 8601 Adelphi Road, College Park, MD 20740-6001. Telephone: 301-837-1539. E-mail: records.mgt@nara.gov.

SUPPLEMENTARY INFORMATION: Each year Federal agencies create billions of records on paper, film, magnetic tape, and other media. To control this accumulation, agency records managers prepare schedules proposing retention periods for records and submit these schedules for NARA's approval, using the Standard Form (SF) 115, Request for Records Disposition Authority. These schedules provide for the timely transfer into the National Archives of historically valuable records and authorize the disposal of all other records after the agency no longer needs them to conduct its business. Some schedules are comprehensive and cover all the records of an agency or one of its major subdivisions. Most schedules, however, cover records of only one office or program or a few series of records. Many of these update previously approved schedules, and some include records proposed as permanent.

No Federal records are authorized for destruction without the approval of the Archivist of the United States. This approval is granted only after a thorough consideration of their administrative use by the agency of origin, the rights of the Government and of private persons directly affected by the Government's activities, and whether or not they have historical or other value.

Besides identifying the Federal agencies and any subdivisions requesting disposition authority, this public notice lists the organizational unit(s) accumulating the records or indicates agency-wide applicability in the case of schedules that cover records that may be accumulated throughout an agency. This notice provides the control number assigned to each schedule, the total number of schedule items, and the number of temporary items (the records proposed for destruction). It also includes a brief description of the temporary records. The records schedule itself contains a full description of the records at the file unit level as well as their disposition. If NARA staff has prepared an appraisal memorandum for the schedule, it too includes information about the records. Further information about the disposition process is available on request.

Schedules Pending

1. Department of Health and Human Services, Centers for Medicare & Medicaid Services (N1-440-07-1, 11 items, 4 temporary items). Records created and maintained by the Office of the Administrator. Proposed for permanent retention are recordkeeping copies of the Administrator's calendar, public speeches, correspondence, and official briefing books.

2. Department of Homeland Security, Science and Technology Directorate (N1-563-07-23, 2 items, 2 temporary items). Master file for an electronic information system used to manage applications for anti-terrorism technologies to be protected from certain liability claims.

3. Department of Homeland Security, United States Coast Guard (N1-26-08-1, 3 items, 3 temporary items). Master files for an electronic information system used to monitor maritime activities of non-Coast Guard vessels.

4. Department of Justice, Bureau of Alcohol, Tobacco, Firearms and Explosives (N1-436-08-1, 2 items, 2 temporary items). Master files and outputs for the Automated Commercial System, which monitors imports of listed products to track fraud and trafficking.

5. Department of the Navy, United States Marine Corps (N1-NU-07-13, 4 items, 4 temporary items). Logistics activity and analysis reports relating to education, training, property control, accountability, and readiness.

6. Department of the Navy, United States Marine Corps (N1-NU-07-16, 2 items, 2 temporary items). Master file and outputs associated with an electronic information system used to track the development, maintenance, and administration of utilities and services.

7. Department of State, Overseas Buildings Operations (N1-59-07-9, 4 items, 2 temporary items). Director's calendar and daily schedule and copies of thank-you notes and letters of condolence, commendation, or congratulation sent by the Director. Proposed for permanent retention are recordkeeping copies of the Director's correspondence files and travel briefing books.

8. Department of State, Overseas Buildings Operations (N1-59-07-14, 3 items, 2 temporary items). Chief of Staff's calendar and daily schedule and administrative announcements distributed Bureau-wide. Proposed for permanent retention are recordkeeping copies of the Director's management and policy files.

9. Department of the Treasury, Financial Crimes Enforcement Network (N1-559-08-1, 1 item, 1 temporary item). Master files of the Foreign Travel Data Base.

10. Barry M. Goldwater Scholarship and Excellence in Education Foundation, Agency-wide (N1-508-08-1, 7 items, 4 temporary items). Records include chronological files, scholar files, master copies of form letters, and compliance reports. Proposed for permanent retention are recordkeeping copies of Board of Trustees files, general correspondence, and publications files.

11. Environmental Protection Agency (N1-412-07-54, 12 items, 7 temporary items). This schedule authorizes the agency to apply the existing disposition instructions to a number of records series regardless of the recordkeeping medium. The record series include local government reimbursement program records, indemnification requests from states for response action contractors, administrative decision records, claims against the fund documents, Resource Conservation and Recovery Act (RCRA) corrective action files, emergency planning case files background documents and emergency operations test files background documents. Paper recordkeeping copies of these files were previously approved for disposal. Also included are RCRA corrective action files for land disposals, emergency planning directives and plans, emergency operations test reports, and Section 103 notifications for the Comprehensive Environmental Response, Compensation, and Liability Act, for which paper recordkeeping copies previously were approved as permanent.

12. Environmental Protection Agency (N1-412-07-55, 5 items, 5 temporary items). This schedule authorizes the agency to apply the existing disposition instructions to a number of records series regardless of the recordkeeping medium. The record series include formerly used defense sites documents, emergency prevention risk management plan implementation records, emergency planning trade secret files, solid waste management plans, and underground storage tanks site and facility files. Paper recordkeeping copies of these files were previously approved for disposal.

13. Environmental Protection Agency, Headquarters (N1-412-07-56, 8 items, 7 temporary items). This schedule authorizes the agency to apply the existing disposition instructions to a number of records series regardless of the recordkeeping medium. The record series include environmental impact assessments of nongovernmental activities, Federal Register report files, federal facilities data system reports, federal facilities referrals files, federal agency liaison files, and executive orders and Office of Management and Budget circulars review and comments files. Paper recordkeeping copies of these files were previously approved for disposal. Also included are environmental impact statement files, for which paper recordkeeping copies previously were approved as permanent.

14. Environmental Protection Agency (N1-412-07-68, 27 items, 18 temporary items). This schedule authorizes the agency to apply the existing disposition instructions to a number of records series regardless of the recordkeeping medium. The record series include administrative law judge's case files for routine cases, administrative law judge's repository files, Federal Register documents signed by the administrator, external discrimination complaints, congressional committees files, state territories and interstate group files, agency proposed legislation files, weekly legislative reports, public awareness background or working paper files, public affairs project files, program and program activity evaluation work files and reports, and agency program plans review files. Paper recordkeeping copies of these files were previously approved for disposal. Also included are administrative law judges' case files for landmark cases, legislative history files, congressional hearing testimony files, press releases and other public awareness official files, and program policy planning files, for which paper recordkeeping copies previously were approved as permanent.

15. Environmental Protection Agency, Headquarters (N1-412-08-3, 1 item, 1 temporary item). This schedule authorizes the agency to apply the existing disposition instructions to records regardless of the recordkeeping medium. The records relate to notification of hazardous waste imports into the United States and hazardous waste exports to foreign countries. Paper recordkeeping copies of these files were previously approved for disposal.

16. Federal Election Commission, Office of the General Counsel (N1-339-06-1, 4 items, 3 temporary items). Records relating to litigation cases filed by or against the Commission, including working papers and copies used for revisions. Proposed for permanent retention are the official case files. This schedule authorizes the agency to apply the proposed disposition instructions to any recordkeeping medium.

17. Federal Mediation and Conciliation Service, Agency-wide (N1-280-07-5, 6 items, 6 temporary items). Content records and management or support records of the agency's public Web site and intranet Web site.

18. Federal Mediation and Conciliation Service, Office of Arbitration Services (N1-280-08-1, 4 items, 4 temporary items). Arbitration case administration data, R-19 arbitrator's report and statement of fees forms case files, official roster of arbitrators and personal data questionnaire forms, and notice processing records.

19. Helping to Enhance the Livelihood of People around the Globe (HELP) Commission, Agency-wide (N1-220-08-1, 8 items, 4 temporary items). Travel briefing materials, audio recordings of selected meetings, and web site. Proposed for permanent retention are recordkeeping copies of meeting minutes and notes, drafts and final copies of the Commission's report, and outreach materials.

20. National Archives and Records Administration, National Personnel Records Center (N1-64-08-1, 2 items, 2 temporary items). Master files and analytic/data warehouse for the Case Management and Reporting System, which manages response to customer requests for military records.

21. United States Institute of Peace, Task Force on UN Reform (N1-573-08-1, 8 items, 3 temporary items). Administrative records associated with the task force. Proposed for permanent retention are recordkeeping copies of background files, the final report, meeting and briefing books, congressional hearing files, and electronic program records.

Dated: December 17, 2007.
Michael J. Kurtz,
Assistant Archivist for Records Services—Washington, DC.

[FR Doc. E7-24805 Filed 12-20-07; 8:45 am]

BILLING CODE 7515-01-P